DEPARTMENT OF HOMELAND SECURITY

Office of the Secretary

Privacy Act of 1974; Retirement of Department of Homeland Security Transportation Security Administration System of Records

AGENCY: Privacy Office, Department of Homeland Security.

ACTION: Notice of retirement of one Privacy Act system of records notice.

SUMMARY: In accordance with the Privacy Act of 1974, the Department of Homeland Security is giving notice that it will retire the following Privacy Act system of records notice, DHS/TSA-017 Secure Flight Test Records (June 22, 2005, 70 FR 36320), which was written to cover the testing phase of the Secure Flight program, from its inventory of record systems. The Department of Homeland Security will rely upon Department of Homeland Security/Transportation Security Administration-019, Secure Flight Records (November 9, 2007, 72 FR 63711) to cover the operational phase of the Secure Flight program.

DATES: These changes will take effect upon publication in the Federal Register.

FOR FURTHER INFORMATION CONTACT: For general questions please contact: Peter Pietra, Director, Privacy Policy and Compliance, TSA-36, Transportation Security Administration, 601 South 12th Street, Arlington, VA 20598-6036; email: TSAPrivacy@dhs.gov. For privacy issues please contact: Jonathan Cantor, (202-343-1717), Acting Chief Privacy Officer, Privacy Office, Department of Homeland Security, Washington, DC 20528.

SUPPLEMENTARY INFORMATION: Pursuant to the provisions of the Privacy Act of 1974, 5 U.S.C. 552a, and as part of its ongoing integration and management efforts, the Department of Homeland Security (DHS) is retiring the system of records notice, DHS/Transportation Security Administration (TSA)-017 Secure Flight Test Records (June 22, 2005, 70 FR 36320), from its inventory of record systems. TSA published DHS/TSA-017, Secure Flight Test Records, to cover the testing phase of the Secure Flight program, which was designed to assist TSA in preventing individuals known or suspected to be engaged in terrorist activity from boarding domestic passenger flights. TSA also conducted a separate test of the use of commercial data to determine its effectiveness in identifying passenger information that is inaccurate or incorrect. All test records within this system have been destroyed in accordance with the National Archives and Records Administration General Records Schedule 20. DHS/TSA-019 Secure Flight Records (November 9, 2007, 72 FR 63711), currently covers the operational phase of the Secure Flight program. DHS will continue to collect and maintain records regarding the Secure Flight program and will rely upon the existing system of records notice, DHS/TSA-019, Secure Flight Records.

Eliminating the system of records notice DHS/TSA-017, Secure Flight Test Records, will have no adverse impacts on individuals, but will promote the overall streamlining and management of DHS Privacy Act record systems.

Dated: November 6, 2012.
Jonathan R. Cantor,
Acting Chief Privacy Officer, Department of Homeland Security.

[FR Doc. 2012-28676 Filed 11-26-12; 8:45 am]

BILLING CODE 9110-05-P